DEPARTMENT OF ENERGY

Office of Energy Efficiency and Renewable Energy

Bioenergy Technologies Office: Waste to Energy Roadmapping Workshop

AGENCY: Office of Energy Efficiency and Renewable Energy, Department of Energy (DOE).

ACTION: Notice of Open Meeting: Waste to Energy Roadmapping Workshop.

SUMMARY: The Department of Energy (DOE) today gives notice of a workshop hosted by the Bioenergy Technologies Office (BETO) to discuss the current state of technology and efforts needed to achieve affordable, scalable, and sustainable drop-in hydrocarbon biofuels derived from waste feedstocks.

DATES: Wednesday, November 5, 2014 8:30 a.m.—5:00 p.m.; Thursday, November 6, 2014 9:00 a.m.—12:00 noon.

ADDRESSES: DoubleTree Hotel, 300 Army Navy Drive, Arlington, VA 22202.

FOR FURTHER INFORMATION CONTACT: Questions may be directed to—Aaron Fisher at (410) 953-6231 or by email at aaron.fisher@ee.doe.gov.

SUPPLEMENTARY INFORMATION: The purpose of this workshop is to bring together waste-to-energy experts to identify key technical barriers to the commercial deployment of liquid transportation fuels from waste feedstocks, and ultimately develop a roadmap which highlights the key pathways and metrics to meeting this goal. Participants will be led in facilitated breakout sessions to address anaerobic digestion, hydrothermal liquefaction, and other processes from feedstock streams consisting of wastewater residuals, biosolids, foodstuffs, and organic municipal solid waste. These discussions will lead to a roadmap that will be a synthesized output from the information gathered at the workshop.

Issued in Golden, CO on September 15, 2014.
Nicole Blackstone,
Contracting Officer.

[FR Doc. 2014-24457 Filed 10-14-14; 8:45 am]

BILLING CODE 6450-01-P